DEPARTMENT OF ENERGY

Federal Energy Regulatory Commission

Combined Notice of Filings #1

Take notice that the Commission received the following electric corporate filings:

Docket Numbers: EC24-30-000.

Applicants: Wisconsin Electric Power Company, Madison Gas and Electric Company, Power & Light Company.

Description: Joint Application for Authorization Under Section 203 of the Federal Power Act of Wisconsin Electric Power Company, et al.

Filed Date: 12/22/23.

Accession Number: 20231222-5349.

Comment Date: 5 p.m. ET 2/20/24.

Docket Numbers: EC24-31-000.

Applicants: Blue Harvest Solar Park LLC, Timber Road Solar Park LLC.

Description: Joint Application for Authorization Under Section 203 of the Federal Power Act of Blue Harvest Solar Park LLC, et. al.

Filed Date: 12/22/23.

Accession Number: 20231222-5359.

Comment Date: 5 p.m. ET 2/20/24.

Take notice that the Commission received the following electric rate filings:

Docket Numbers: ER10-1862-043; ER10-1871-013; ER10-1893-043; ER10-1934-043; ER10-1938-044; ER10-1942-041; ER10-2042-050; ER10-2985-047; ER10-3049-048; ER10-3051-048; ER11-4369-028; ER16-2218-029; ER17-696-029; ER23-944-006.

Applicants: Calpine Community Energy, LLC, Calpine Energy Solutions, LLC, North American Power Business, LLC, North American Power and Gas, LLC, Champion Energy, LLC, Champion Energy Services, LLC, Champion Energy Marketing LLC, Calpine Energy Services, L.P., Calpine Construction Finance Co., L.P., Calpine Power America—CA, LLC,CES Marketing IX, LLC,CES Marketing X, LLC, Morgan Energy Center, LLC, Power Contract Financing, L.L.C.

Description: Triennial Market Power Analysis for Southeast Region of Power Contract Financing, L.L.C., et. al.

Filed Date:12/27/23.

Accession Number: 20231227-5242.

Comment Date: 5 p.m. ET 2/26/24.

Docket Numbers: ER10-2127-025.

Applicants: Invenergy TN LLC.

Description: Triennial Market Power Analysis for Southeast Region of Invenergy TN LLC.

Filed Date: 12/22/23.

Accession Number: 20231222-5355.

Comment Date: 5 p.m. ET 2/20/24.

Docket Numbers: ER10-2134-016.

Applicants: Hardee Power Partners Limited.

Description: Triennial Market Power Analysis for Southeast Region of Hardee Power Partners Limited.

Filed Date: 12/22/23.

Accession Number: 20231222-5352.

Comment Date: 5 p.m. ET 2/20/24.

Docket Numbers: ER10-2211-009.

Applicants: Vandolah Power Company, L.L.C.

Description: Triennial Market Power Analysis for Southeast Region of Vandolah Power Company, L.L.C.

Filed Date: 12/22/23.

Accession Number: 20231222-5351.

Comment Date: 5 p.m. ET 2/20/24.

Docket Numbers: ER10-2358-008; ER10-2819-007; ER14-413-005; ER14-1390-006; ER14-1397-006; ER19-1778-003; ER22-2500-001; ER22-2501-001; ER22-2502-001.

Applicants: DLS—Sylvan Project Co, LLC, DLS—Laskin Project Co, LLC, DLS—Jean Duluth Project Co, LLC, Glen Ullin Energy Center, LLC, Storm Lake Power Partners II, LLC, Lake Benton Power Partners LLC,ALLETE Clean Energy, Inc., ALLETE, Inc., Storm Lake Power Partners I LLC.

Description: Triennial Market Power Analysis for Central Region of Storm Lake Power Partners I LLC, et. al.

Filed Date: 12/22/23.

Accession Number: 20231222-5357.

Comment Date: 5 p.m. ET 2/20/24.

Docket Numbers: ER10-2570-037; ER19-381-003.

Applicants: Power Holding LLC, Shady Hills Power Company LLC.

Description: Triennial Market Power Analysis for Southeast Region of Shady Hills Power Company L.L.C., et. al.

Filed Date: 12/22/23.

Accession Number: 20231222-5358.

Comment Date: 5 p.m. ET 2/20/24.

Docket Numbers: ER10-2877-004.

Applicants: Cobb Electric Membership Corporation.

Description: Triennial Market Power Analysis for Southeast Region of Cobb Electric Membership Corporation.

Filed Date: 12/22/23.

Accession Number: 20231222-5353.

Comment Date: 5 p.m. ET 2/20/24.

Docket Numbers: ER16-1720-026.

Applicants: Invenergy Energy Management LLC.

Description: Triennial Market Power Analysis for Southeast Region of Invenergy Energy Management LLC.

Filed Date: 12/22/23.

Accession Number: 20231222-5356.

Comment Date: 5 p.m. ET 2/20/24.

Docket Numbers: ER18-1197-009.

Applicants: Camilla Solar Energy LLC.

Description: Triennial Market Power Analysis for Southeast Region of Camilla Solar Energy LLC.

Filed Date: 12/22/23.

Accession Number: 20231222-5354.

Comment Date: 5 p.m. ET 2/20/24.

Docket Numbers: ER20-813-002; ER15-1378-003.

Applicants: Mercuria Commodities Canada Corporation, Mercuria Energy America, Inc.

Description: Triennial Market Power Analysis for Southeast Region of Mercuria Commodities Canada Corporation, et al.

Filed Date: 12/22/23.

Accession Number: 20231222-5348.

Comment Date: 5 p.m. ET 2/20/24.

Docket Numbers: ER20-1505-006.

Applicants: Basin Electric Power Cooperative.

Description: Triennial Market Power Analysis for Central Region of Basin Electric Power Cooperative.

Filed Date: 12/22/23.

Accession Number: 20231222-5346.

Comment Date: 5 p.m. ET 2/20/24.

Docket Numbers: ER23-2764-002.

Applicants: Northeastern Power & Gas, LLC.

Description: Tariff Amendment: Amendment to 10 to be effective 9/25/2023.

Filed Date: 12/27/23.

Accession Number: 20231227-5113.

Comment Date: 5 p.m. ET 1/17/24.

Docket Numbers: ER24-759-000.

Applicants: PJM Interconnection, L.L.C.

Description: 205(d) Rate Filing: Amendment to WMPA, SA No. 5545; Queue No. AE2-125 re: FirstEnergy Reorganization to be effective 12/31/9998.

Filed Date: 12/26/23.

Accession Number: 20231226-5172.

Comment Date: 5 p.m. ET 1/16/24.

Docket Numbers: ER24-760-000.

Applicants: Consolidated Edison Company of New York, Inc.

Description: 205(d) Rate Filing: Con Edison WDS RY 2 and ACOS filing to be effective 1/1/2024.

Filed Date: 12/27/23.

Accession Number: 20231227-5000.

Comment Date: 5 p.m. ET 1/17/24.

Docket Numbers: ER24-761-000.

Applicants: Alabama Power Company, Georgia Power Company, Mississippi Power Company.

Description: 205(d) Rate Filing: Alabama Power Company submits tariff filing per 35.13(a)(2)(iii: Wilsonville Solar LGIA Filing to be effective 12/15/2023.

Filed Date: 12/27/23.

Accession Number: 20231227-5107.

Comment Date: 5 p.m. ET 1/17/24.

Docket Numbers: ER24-762-000.

Applicants: Elevate Renewables F7, LLC.

Description: Baseline eTariff Filing: Market-Based Rate Application to be effective 2/26/2024.

Filed Date: 12/27/23.

Accession Number: 20231227-5118.

Comment Date: 5 p.m. ET 1/17/24.

Docket Numbers: ER24-763-000.

Applicants: Midcontinent Independent System Operator, Inc.

Description: 205(d) Rate Filing: 2023-12-27_SA 4210 Ameren IL-Knox County Wind Farm FCA (J844) to be effective 12/21/2023.

Filed Date: 12/27/23.

Accession Number: 20231227-5121.

Comment Date: 5 p.m. ET 1/17/24.

Docket Numbers: ER24-764-000.

Applicants: GB Arthur Kill Storage LLC.

Description: Baseline eTariff Filing: Market-Based Rate Application to be effective 2/26/2024.

Filed Date: 12/27/23.

Accession Number: 20231227-5123.

Comment Date: 5 p.m. ET 1/17/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 27, 2023.
Debbie-Anne A. Reese,
Deputy Secretary.

[FR Doc. 2023-28879 Filed 1-2-24; 8:45 am]

BILLING CODE 6717-01-P